DEPARTMENT OF HEALTH AND HUMAN SERVICES

National Institutes of Health

Center For Scientific Review; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Integrative, Functional and Cognitive Neuroscience Integrated Review Group,Cognitive Neuroscience Study Section.

Date: May 27, 2008.

Time: 8 a.m. to 5 p.m.

Agenda: To review and evaluate grant applications.

Place: Hyatt Regency Bethesda, One Bethesda Metro Center, 7400 Wisconsin Avenue,Bethesda, MD 20814.

Contact Person: Judith A. Finkelstein, PhD, Scientific Review Officer, Center for Scientific Review,National Institutes of Health,6701 Rockledge Drive, Room 5178, MSC 7844,Bethesda, MD 20892,301-435-1249, finkelsj@csr.nih.gov.

Name of Committee: Molecular, Cellular and Developmental Neuroscience Integrated Review Group,Molecular Neuropharmacology and Signaling Study Section.

Date: May 29, 2008.

Time: 8 a.m. to 7 p.m.

Agenda: To review and evaluate grant applications.

Place: The Jurys Hotel, 1500 New Hampshire Avenue, Washington, DC 20036.

Contact Person: Deborah L. Lewis, PhD, Scientific Review Administrator, Center for Scientific Review, National Institutes of Health,6701 Rockledge Drive, Room 4118, MSC 7850, Bethesda, MD 20892, 301-435-1224, lewisdeb@csr.nih.gov.

Name of Committee: Center for Scientific Review Special Emphasis Panel, Member Conflict: Biological Rhythms and Sleep.

Date: May 29, 2008.

Time: 2 p.m. to 5 p.m.

Agenda: To review and evaluate grant applications.

Place: National Institutes of Health, 6701 Rockledge Drive, Bethesda, MD 20892(Telephone Conference Call).

Contact Person: Edwin C. Clayton, PhD, Scientific Review Officer, Center for Scientific Review,National Institutes of Health,6701 Rockledge Drive, Room 5095C, MSC 7844,Bethesda, MD 20892, (301) 402-1304, claytone@csr.nih.gov.

Name of Committee: Center for Scientific Review Special Emphasis Panel, The Brain Disorders and Clinical Neuroscience Member Conflict.

Date: May 29, 2008.

Time: 2 p.m. to 6 p.m.

Agenda: To review and evaluate grant applications.

Place: National Institutes of Health, 6701 Rockledge Drive, Bethesda, MD 20892(Virtual Meeting).

Contact Person: Jay Joshi, PhD, Scientific Review Officer, Center for Scientific Review,National Institutes of Health, 6701 Rockledge Drive, Room 5184, MSC 7846, Bethesda, MD 20892, (301) 435-1184, joshij@csr.nih.gov.

Name of Committee: Musculoskeletal, Oral And Skin Sciences Integrated Review Group Skeletal Biology Development and Disease Study Section.

Date: June 1-3, 2008.

Time: 7 a.m. to 4 p.m.

Agenda: To review and evaluate grant applications.

Place: Renaissance M Street Hotel,1143 New Hampshire Avenue, NW., Washington, DC 20037.

Contact Person: Priscilla B. Chen, PhD, Scientific Review Officer, Center for Scientific Review,National Institutes of Health,6701 Rockledge Drive, Room 4104, MSC 7814,Bethesda, MD 20892, (301) 435-1787, chenp@csr.nih.gov.

Name of Committee: Center for Scientific Review Special Emphasis Panel, Neural Drug Discovery.

Date: June 2, 2008.

Time: 8 a.m. to 7 p.m.

Agenda: To review and evaluate grant applications.

Place: The Fairmont Washington, DC, 2401 M Street, NW., Washington, DC 20037.

Contact Person: Mary Custer, PhD, Scientific Review Administrator, Center for Scientific Review, National Institutes of Health, 6701 Rockledge Drive, Room 4148, MSC 7850, Bethesda, MD 20892, (301)435-1164, custerm@csr.nih.gov.

Name of Committee: Center for Scientific Review Special Emphasis Panel, BDCN-N (02) M: Member Conflict Special Emphasis Panel.

Date: June 2, 2008.

Time: 8 a.m. to 8 p.m.

Agenda: To review and evaluate grant applications.

Place: National Institutes of Health, 6701 Rockledge Drive, Bethesda, MD 20892(Virtual Meeting).

Contact Person: Suzan Nadi, PhD, Scientific Review Officer, Center for Scientific Review, National Institutes of Health, 6701 Rockledge Drive, Room 5217B, MSC 7846, Bethesda, MD 20892, 301-435-1259, nadis@csr.nih.gov.

Name of Committee: Genes, Genomes, and Genetics Integrated Review Group, Genomics, Computational Biology and Technology Study Section.

Date: June 3-4, 2008.

Time: 8 a.m. to 4 p.m.

Agenda: To review and evaluate grant applications.

Place: Churchill Hotel, 1914 Connecticut Avenue, NW., Washington, DC 20009.

Contact Person: Barbara J. Thomas, PhD, Scientific Review Officer, Center for Scientific Review, National Institutes of Health, 6701 Rockledge Drive, Room 2218, MSC 7890, Bethesda, MD 20892, 301-435-0603, bthomas@csr.nih.gov.

Name of Committee: Center for Scientific Review Special Emphasis Panel, S1O Study Section Panel.

Date: June 4-5, 2008.

Time: 8 a.m. to 5 p.m.

Agenda: To review and evaluate grant applications.

Place: National Institutes of Health, 6701 Rockledge Drive, Bethesda, MD 20892(Virtual Meeting).

Contact Person: Jonathan Arias, PhD, Scientific Review Administrator, Center for Scientific Review, National Institutes of Health, 6701 Rockledge Drive, Room 5170, MSC 7840,Bethesda, MD 20892, 301-435-2406, ariasj@csr.nih.gov.

Name of Committee: Center for Scientific Review Special Emphasis Panel, RFA-HD-07-1 01: Evaluating the Health Benefits of Workplace Policies/Practices Phase II.

Date: June 4, 2008.

Time: 1:30 p.m. to 4 p.m.

Agenda: To review and evaluate grant applications.

Place: National Institutes of Health, 6701 Rockledge Drive, Bethesda, MD 20892(Virtual Meeting).

Contact Person: Valerie Durrant, PhD, Scientific Review Officer, Center for Scientific Review, National Institutes of Health, 6701 Rockledge Drive, Room 3148, MSC 7770,Bethesda, MD 20892, (301) 435-3554, durrantv@csr.nih.gov.

Name of Committee: Center for Scientific Review Special Emphasis Panel, Vision Technologies.

Date: June 4, 2008.

Time: 2 p.m. to 3 p.m.

Agenda: To review and evaluate grant applications.

Place: National Institutes of Health, 6701 Rockledge Drive, Bethesda, MD 20892(Telephone Conference Call).

Contact Person: George Ann McKie, DVM, PhD, Scientific Review Officer, Center for Scientific Review, National Institutes of Health, 6701 Rockledge Drive, Room 1124, MSC 7846,Bethesda, MD 20892, 301-435-1049, mckiegeo@csr.nih.gov.

Name of Committee: Cardiovascular Sciences Integrated Review Group, Clinical and Integrative Cardiovascular Sciences Study Section.

Date: June 5-6, 2008.

Time: 8 a.m. to 5 p.m.

Agenda: To review and evaluate grant applications.

Place: Washington Plaza Hotel, 10 Thomas Circle, NW., Washington, DC 20005.

Contact Person: Russell T. Dowell, PhD, Scientific Review Officer, Center for Scientific Review, National Institutes of Health, 6701 Rockledge Drive, Room 4128, MSC 7814,Bethesda, MD 20892, (301) 435-1850, dowellr@csr.nih.gov.

Name of Committee: Center for Scientific Review Special Emphasis Panel BTSS Member Conflict.

Date: June 6, 2008.

Time: 2 p.m. to 4 p.m.

Agenda: To review and evaluate grant applications.

Place: National Institutes of Health, 6701 Rockledge Drive, Bethesda, MD 20892(Telephone Conference Call).

Contact Person: Roberto J. Matus, MD, Scientific Review Officer, Center for Scientific Review, National Institutes of Health, 6701 Rockledge Drive, Room 5108, MSC 7854,Bethesda, MD 20892, (301) 435-2204, matusr@csr.nih.gov.

Name of Committee: Center for Scientific Review Special Emphasis Panel, NIH Rapid Access to Interventional Development Pilot Review.

Date: June 10-11, 2008.

Time: 6 a.m. to 6 p.m.

Agenda: To review and evaluate grant applications.

Place: National Institutes of Health, 6701 Rockledge Drive, Bethesda, MD 20892(Virtual Meeting).

Contact Person: James J. Li, PhD, Scientific Review Officer, Center for Scientific Review, National Institutes of Health, 6701 Rockledge Drive, Room 5148, MSC 7844,Bethesda, MD 20892, 301-435-2417, lijames@csr.nih.gov.

Name of Committee: Molecular, Cellular and Developmental Neuroscience Integrated Review Group, Synapses, Cytoskeleton and Trafficking Study Section.

Date: June 11-12, 2008.

Time: 8 a.m. to 4 p.m.

Agenda: To review and evaluate grant applications,

Place: Hilton Alexandria Old Town Hotel, 1767 King Street, Alexandria, VA 22314.

Contact Person: Jonathan K. Ivins, PhD, Scientific Review Administrator, Center for Scientific Review, National Institutes of Health, 6701 Rockledge Drive, Room 4040A, MSC 7806,Bethesda, MD 20892, (301) 594-1245, ivinsj@csr.nih.gov.

Name of Committee: Risk, Prevention and Health Behavior Integrated Review Group,Risk, Prevention and Intervention for Addictions Study Section.

Date: June 11-12, 2008.

Time: 6 p.m. to 5 p.m.

Agenda: To review and evaluate grant applications.

Place: Arts Club of Washington, 2017 I Street, NW., Washington, DC 20006.

Contact Person: Gayle M. Boyd, PhD, Scientific Review Officer, Center for Scientific Review, National Institutes of Health, 6701 Rockledge Drive, Room 3141, MSC 7808,Bethesda, MD 20892, 301-451-9956, gboyd@mail.nih.gov.

Name of Committee: Surgical Sciences, Biomedical Imaging and Bioengineering Integrated Review Group, Biomedical Computing and Health Informatics Study Section.

Date: June 12, 2008.

Time: 8 a.m. to 12 p.m.

Agenda: To review and evaluate grant applications.

Place: Bethesda Marriott Suites, 6711 Democracy Boulevard, Bethesda, MD 20817.

Contact Person: Bill Bunnag, PhD, Scientific Review Administrator, Center for Scientific Review, National Institutes of Health, 6701 Rockledge Drive, Room 5124, MSC 7854,Bethesda, MD 20892, (301) 435-1177, bunnagb@csr.nih.gov.

Name of Committee: Molecular, Cellular and Developmental Neuroscience Integrated Review Group, Biophysics of Neural Systems Study Section.

Date: June 12, 2008.

Time: 8 a.m. to 8 p.m.

Agenda: To review and evaluate grant applications.

Place: Hotel Lombardy, 2019 Pennsylvania Avenue, NW., Washington, DC 20006.

Contact Person: Geoffrey G. Schofield, PhD, Scientific Review Administrator,Center for Scientific Review,National Institutes of Health,6701 Rockledge Drive, Room 4040-A, MSC 7850,Bethesda, MD 20892,301-435-1235,geoffreys@csr.nih.gov.

Agenda: To review and evaluate grant applications.

Name of Committee: Infectious Diseases and Microbiology Integrated Review Group, Host Interactions with Bacterial Pathogens Study Section.

Date: June 12-13, 2008.

Time: 8 a.m. to 5 p.m.

Agenda: To review and evaluate grant applications.

Place: Latham Hotel, 3000 M Street, NW., Washington, DC 20007.

Contact Person: Marian Wachtel, PhD, Scientific Review Officer, Center for Scientific Review,National Institutes of Health,6701 Rockledge Drive, Room 3208, MSC 7858,Bethesda, MD 20892,301-435-1148,wachtelm@csr.nih.gov.

Name of Committee: Musculoskeletal, Oral And Skin Sciences Integrated Review Group, Skeletal Muscle and Exercise Physiology Study Section.

Date: June 12-13, 2008.

Time: 8:30 a.m. to 5 p.m.

Agenda: To review and evaluate grant applications.

Place: The Westin St. Francis, 335 Powell Street, San Francisco, CA 94102.

Contact Person: Richard J. Bartlett, PhD, Scientific Review Officer, Center for Scientific Review,National Institutes of Health,6701 Rockledge Drive, Room 4110, MSC 7814,Bethesda, MD 20892,301-435-6809,bartletr@csr.nih.gov.

Name of Committee: Center for Scientific Review Special Emphasis Panel, Surgical Sciences, Biomedical Imaging and Bioengineering Integrated Review Group.

Date: June 12,2008.

Time: 1 p.m. to 6 p.m.

Agenda: To review and evaluate grant applications.

Place: Bethesda Marriott Suites, 6711 Democracy Boulevard, Bethesda, MD 20817.

Contact Person: Bill Bunnag, PhD, Scientific Review Officer, Center for Scientific Review,National Institutes of Health,6701 Rockledge Drive, Room 5124, MSC 7854,Bethesda, MD 20892, (301) 435-1177,bunnagb@csr.nih.gov.

Name of Committee: Endocrinology, Metabolism, Nutrition and Reproductive Sciences Integrated Review Group, Molecular and Cellular Endocrinology Study Section.

Date: June 13-14, 2008.

Time: 8 a.m. to 3 p.m.

Agenda: To review and evaluate grant applications.

Place: Sir Francis Drake Hotel, 450 Powell Street, San Francisco, CA 94102.

Contact Person: Syed M. Amir, PhD, Scientific Review Officer, Center for Scientific Review,National Institutes of Health,6701 Rockledge Drive, Room 6172, MSC 7892,Bethesda, MD 20892,301-435-1043, amirs@csr.nih.gov.

Name of Committee: Health of the Population Integrated Review Group, Biostatistical Methods and Research Design Study Section,

Date: June 13, 2008,

Time: 8 a.m. to 5 p.m.

Agenda: To review and evaluate grant applications.

Place: George Washington University Inn.824 New Hampshire Avenue, NW., Washington, DC 20037.

Contact Person: Ann Hardy, DRPH, Scientific Review Officer, Center for Scientific Review,National Institutes of Health,6701 Rockledge Drive, Room 3158, MSC 7770,Bethesda, MD 20892, (301) 435-0695,hardyan@csr.nih.gov.

Name of Committee: Center for Scientific Review Special Emphasis Panel, PAR-07-018: Health Literacy.

Date: June 13, 2008.

Time: 8:30 a.m. to 6 p.m.

Agenda: To review and evaluate grant applications.

Place: Embassy Suites at the Chevy Chase Pavilion, 4300 Military Road, NW., Washington, DC 20015.

Contact Person: Karen Lechter, PhD, Scientific Review Officer, Center for Scientific Review,National Institutes of Health,6701 Rockledge Drive, Room 3128, MSC 7759,Bethesda, MD 20892,301-496-0726,lechterk@csr.nih.gov.

Name of Committee: Center for Scientific Review Special Emphasis Panel, SMEP Overflow and Skeletal Muscle Small Business Applications.

Date: June 13, 2008.

Time: 8:30 a.m. to 5 p.m.

Agenda: To review and evaluate grant applications.

Place: The Westin St. Francis, 335 Powell Street, San Francisco, CA 94102.

Contact Person: Richard J. Bartlett, PhD, Scientific Review Officer, Center for Scientific Review,National Institutes of Health,6701 Rockledge Drive, Room 4110, MSC 7814,Bethesda, MD 20892,301-435-6809,bartletr@csr.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: April 22, 2008.
Jennifer Spaeth,
Director, Office of Federal Advisory Committee Policy.

[FR Doc. E8-9284 Filed 4-28-08; 8:45 am]

BILLING CODE 4140-01-M